FEDERAL COMMUNICATIONS COMMISSION

Notice of Public Information Collection(s) Being Reviewed by the Federal Communications Commission

September 24, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 3, 2001. If you anticipate that you will be submitting comments, but find it difficult to do so within the period of time allowed by this notice, you should advise the contact listed below as soon as possible.

ADDRESSES: Direct all comments to Les Smith, Federal Communications Commission, Room 1-A804, 445 12th Street, SW, Washington, DC 20554 or via the Internet to lesmith@fcc.gov.

FOR FURTHER INFORMATION CONTACT: For additional information or copies of the information collection(s), contact Les Smith at 202-418-0217 or via the Internet at lesmith@fcc.gov.

SUPPLEMENTARY INFORMATION: OMB Control Number: 3060-0057.

Title: Application for Equipment Authorization, 47 CFR Sections 2.911, 2.925, 2.932, 2.944, 2.960, 2.1033(a), and 2.1043.

Form Number: FCC 731.

Type of Review: Revision of currently approved collections.

Respondents: Business or other for-profit entities.

Number of Respondents: 5,600.

Estimate of Time Per Response: 18 to 30 hrs. (avg. 24 hrs.).

Frequency of Response: Record-keeping; On occasion reporting requirements.

Total Annual Burden: 134,400.

Total Annual Costs: $1,120,000.

Needs and Uses: Under sections of 47 CFR parts 15 and 18 of FCC Rules, regulated equipment must comply with the Commission's technical standards before it is approved for marketing. Rules governing certain equipment operating in the licensed service also require equipment authorization under 47 CFR part 2. In ET Docket No. 00-47, the FCC established a Class III “permissive change” to permit manufacturers to make changes that affect the frequency, power, and modulation parameters of software defined radios without having to file a new equipment authorization application. However, new software can not be loaded into radios until the FCC or a designated Telecommunications Certification Body (TCB) approves the manufacturer's software changes and test data showing compliance with FCC technical standards with the new software loaded. The FCC will also allow “electronic labeling” for software defined radio transmitters—a liquid crystal display or similar screen displays the FCC identification number, and since the new technology replaces existing technology, the basic authorization process will not change.

OMB Control Number: 3060-0934.

Title: Application for Equipment Authorization, 47 CFR Sections 2.925, 2.932, 2.944, 2.960, 2.962, 2.1043, 68.160, and 68.162.

Form Number: FCC TCB 731.

Type of Review: Revision of currently approved collection.

Respondents: Business or other for profit.

Number of Respondents: 1,600.

Estimated Time Per Response: 4 hrs.

Total Annual Burden: 6,400 hrs.

Total Annual Cost: $175,000.

Needs and Uses: Under 47 CFR parts 15 and 18 of FCC Rules, certain equipment must comply with FCC technical standards before it can be marketed. Equipment that operates in the licensed service requires FCC authorization under 47 CFR Parts 2 and 68. In the 1998 R&O, General Docket No. 98-68, the FCC permits a private sector firm, a “Telecommunications Certification Body” or TCB, to approve equipment for marketing and also established guidelines for “Mutual Recognition Agreements” with foreign trade partners. Once approved by the accrediting body and “designated” by the FCC, TCBs may accept Form 731 filings and evaluate the equipment's compliance with FCC Rules and technical standards. The TCB submits this information to the FCC via the Internet. In ET Docket No. 00-47, the FCC established a Class III “permissive change” to permit manufacturers to make changes affecting frequency, power, and modulation parameters of “software defined radios” without having to file a new equipment authorization application. The manufacturer must submit a description of the software changes to the FCC or a designated TCB. The FCC will also permit “electronic labeling” to be used on software defined radio transmitters.

Federal Communications Commission.
Magalie Roman Salas,
Secretary.

[FR Doc. 01-24571 Filed 10-1-01; 8:45 am]

BILLING CODE 6712-01-P